DEPARTMENT OF HEALTH AND HUMAN SERVICES

National Institutes of Health

Center for Scientific Review; Amended Notice of Meeting

Notice is hereby given of a change in the meeting of the Center for Scientific Review Special Emphasis Panel Member Conflict: Cognitive Processing and Neuropsychiatric Disorders, March 25, 2020, 1:00 p.m. to 5:00 p.m. at the National Institutes of Health, 6701 Rockledge Drive, Bethesda, MD 20892, which was published in the Federal Register on March 04, 2020, 85 FR 12794.

The date of the meeting of the Center for Scientific Review Special Emphasis Panel: Member Conflict: Cognitive Processing and Neuropsychiatric Disorders has been changed to March 26, 2020. The meeting location and time remain the same. The meeting is closed to the public.

Dated: March 11, 2020.
Miguelina Perez,
Program Analyst, Office of Federal Advisory Committee Policy.

[FR Doc. 2020-05421 Filed 3-16-20; 8:45 am]

BILLING CODE 4140-01-P